DEPARTMENT OF STATE

[Public Notice: 10127]

U.S. Department of State Advisory Committee on Private International Law (ACPIL): Public Meeting in Advance of Meeting of United Nations Commission on International Trade Law (UNCITRAL) Working Group I, Micro, Small, and Medium-Sized Enterprises

The Office of the Assistant Legal Adviser for Private International Law, Department of State, hereby gives notice that the Micro, Small, and Medium-Sized Enterprises (MSMEs) study group of the Advisory Committee on Private International Law (ACPIL) will hold a public meeting via teleconference to discuss the next session of the UNCITRAL Working Group I scheduled for October 16-20 in Vienna. This is not a meeting of the full Advisory Committee.

UNCITRAL has established a working group aimed at reducing the legal obstacles faced by MSMEs throughout their life cycle, and in particular those in developing countries. UNCITRAL further directed that the work should start with a focus on the legal issues surrounding the simplification of registration and incorporation. At its upcoming session, the UNCITRAL Working Group I will consider a draft legislative guide on key principles of business registration (UN Doc. A/CN.9/WG.I/WP.106) and an introductory paper prepared by the Secretariat entitled “Reducing the legal obstacles faced by MSMEs” (UN Doc. A/CN.9/WG.I/WP.107). The draft texts, along with the reports of earlier sessions of the Working Group will be available at http://www.uncitral.org/uncitral/en/commission/working_groups/1MSME.html.

Time and Place: The meeting of the ACPIL MSME Study Group will take place on Thursday October 12, from 10 a.m. to 12:00 p.m. EDT via teleconference.

Public Participation: Those planning to participate should email pil@state.gov to obtain the call-in number.

Michael J. Dennis,
Attorney-Adviser, Office of Private International Law, Office of the Legal Adviser, Department of State.

[FR Doc. 2017-19878 Filed 9-18-17; 8:45 am]

BILLING CODE 4710-08-P